FEDERAL ELECTION COMMISSION

Sunshine Act Meeting

DATE & TIME: Tuesday, February 6, 2001 at 10 a.m.

PLACE: 999 E Street, NW., Washington, DC.

STATUS: This meeting will be closed to the public.

ITEMS TO BE DISCUSSED:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE & TIME: Thursday, February 8, 2001 at 10 a.m.

PLACE: 999 E Street, NW., Washington, DC. (ninth floor).

STATUS: This meeting will be open to the public.

ITEMS TO BE DISCUSSED:

Correction and Approval of Minutes.

Draft 2001 Legislative Recommendations.

Advance Notice of Proposed Rulemaking on the Definition of “Political Committee.”

Administrative Matters.

PERSON TO CONTACT FOR INFORMATION: Mr. Ron Harris, Press Officer, Telephone: (202) 694-1220.

Mary W. Dove,
Acting Secretary of the Commission.

[FR Doc. 01-2787 Filed 1-29-01; 2:29 pm]

BILLING CODE 6715-01-M